DEPARTMENT OF ENERGY

Federal Energy Regulatory Commission

Combined Notice of Filings

Take notice that the Commission has received the following Natural Gas & Oil Pipeline Rate and Refund Report filings:

Filings Instituting Proceedings

Docket Numbers: RP23-807-000.

Applicants: Equitrans, L.P.

Description: § 4(d) Rate Filing: Negotiated Rate Agreement—6/1/2023 to be effective 6/1/2023.

Filed Date: 6/1/23.

Accession Number: 20230601-5001.

Comment Date: 5 p.m. ET 6/13/23.

Docket Numbers: RP23-808-000.

Applicants: Alliance Pipeline L.P.

Description: § 4(d) Rate Filing: Form of Service Clean-up Filing to be effective 7/1/2023.

Filed Date: 6/1/23.

Accession Number: 20230601-5002.

Comment Date: 5 p.m. ET 6/13/23.

Docket Numbers: RP23-810-000.

Applicants: NEXUS Gas Transmission, LLC.

Description: § 4(d) Rate Filing: Negotiated Rates—Various Releases eff 6-1-2023 to be effective 6/1/2023.

Filed Date: 6/1/23.

Accession Number: 20230601-5033.

Comment Date: 5 p.m. ET 6/13/23.

Docket Numbers: RP23-811-000.

Applicants: Gulf South Pipeline Company, LLC.

Description: § 4(d) Rate Filing: Remove Expired Agreements eff 6-1-2023 to be effective 6/1/2023.

Filed Date: 6/1/23.

Accession Number: 20230601-5039.

Comment Date: 5 p.m. ET 6/13/23.

Docket Numbers: RP23-812-000.

Applicants: Gulf South Pipeline Company, LLC.

Description: § 4(d) Rate Filing: Cap Rel Neg Rate Agmt (Osaka 46429 to Texla 56328) to be effective 6/1/2023.

Filed Date: 6/1/23.

Accession Number: 20230601-5040.

Comment Date: 5 p.m. ET 6/13/23.

Docket Numbers: RP23-813-000.

Applicants: Algonquin Gas Transmission, LLC.

Description: § 4(d) Rate Filing: Negotiated Rates—Various Releases eff 6-1-23 to be effective 6/1/2023.

Filed Date: 6/1/23.

Accession Number: 20230601-5042.

Comment Date: 5 p.m. ET 6/13/23.

Docket Numbers: RP23-814-000.

Applicants: Columbia Gas Transmission, LLC.

Description: § 4(d) Rate Filing: TCO Negotiated Rate Agreements Eff. 6.1.23 to be effective 6/1/2023.

Filed Date: 6/1/23.

Accession Number: 20230601-5054.

Comment Date: 5 p.m. ET 6/13/23.

Docket Numbers: RP23-815-000.

Applicants: Eastern Shore Natural Gas Company.

Description: § 4(d) Rate Filing: Fuel Retention & Cash Out Adjustment 2023 to be effective 7/1/2023.

Filed Date: 6/1/23.

Accession Number: 20230601-5063.

Comment Date: 5 p.m. ET 6/13/23.

Docket Numbers: RP23-816-000.

Applicants: Texas Eastern Transmission, LP.

Description: § 4(d) Rate Filing: Negotiated Rates—Various Releases eff 6-1-23 to be effective 6/1/2023.

Filed Date: 6/1/23.

Accession Number: 20230601-5064.

Comment Date: 5 p.m. ET 6/13/23.

Docket Numbers: RP23-817-000.

Applicants: El Paso Natural Gas Company, L.L.C.

Description: § 4(d) Rate Filing: Negotiated Rate Agreement Update (SoCal June 2023) to be effective 6/2/2023.

Filed Date: 6/1/23.

Accession Number: 20230601-5085.

Comment Date: 5 p.m. ET 6/13/23.

Docket Numbers: RP23-818-000.

Applicants: Equitrans, L.P.

Description: § 4(d) Rate Filing: Negotiated Rate Capacity Release Agreements—6/1/2023 to be effective 6/1/2023.

Filed Date: 6/1/23.

Accession Number: 20230601-5096.

Comment Date: 5 p.m. ET 6/13/23.

Docket Numbers: RP23-819-000.

Applicants: Maritimes & Northeast Pipeline, L.L.C.

Description: § 4(d) Rate Filing: Negotiated Rates—Northern to Direct Energy 2875 eff 6-1-23 to be effective 6/1/2023.

Filed Date: 6/1/23.

Accession Number: 20230601-5104.

Comment Date: 5 p.m. ET 6/13/23.

Docket Numbers: RP23-820-000.

Applicants: Natural Gas Pipeline Company of America LLC.

Description: § 4(d) Rate Filing: Negotiated Rate Agreement Filing—Kiowa #156013 to be effective 6/1/2023.

Filed Date: 6/1/23.

Accession Number: 20230601-5118.

Comment Date: 5 p.m. ET 6/13/23.

Docket Numbers: RP23-821-000.

Applicants: Transcontinental Gas Pipe Line Company, LLC.

Description: § 4(d) Rate Filing: Negotiated Rates—Cherokee AGL—Replacement Shippers—Jun 2023 to be effective 6/1/2023.

Filed Date: 6/1/23.

Accession Number: 20230601-5128.

Comment Date: 5 p.m. ET 6/13/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2023.
Debbie-Anne A. Reese,
Deputy Secretary.

[FR Doc. 2023-12182 Filed 6-6-23; 8:45 am]

BILLING CODE 6717-01-P